FEDERAL COMMUNICATIONS COMMISSION

[Report No. 2392]

Petition for Reconsideration of Action in Rulemaking Proceeding

March 2, 2000.

Petition for Reconsideration has been filed in the Commission's rulemaking proceeding listed in this Public Notice and published pursuant to 47 CFR Section 1.429(e). The full text of these documents are available for viewing and copying in Room CY-A257, 445 12th Street, SW, Washington, DC or may be purchased from the Commission's copy contractor, ITS, Inc. (202) 857-3800. Oppositions to these petitions must be filed by March 27, 2000. See Section 1.4(b)(1) of the Commission's rules (47 CFR 1.4(b)(1)). Replies to an opposition must be filed within 10 days after the time for filing oppositions has expired.

Subject: Application by New York Telephone Company (d/b/a Bell Atlantic—New York), Bell Atlantic Communications, Inc., Nynex Long Distance Company and Bell Atlantic Global Networks, Inc. for Authorization to Provide In-Region, InterLATA Services in New York.

Number of Petitions Filed: 1.

Federal Communications Commission.
Magalie Roman Salas,
Secretary.

[FR Doc. 00-5850 Filed 3-9-00; 8:45 am]

BILLING CODE 6712-01-M